DEPARTMENT OF TRANSPORTATION

Federal Aviation Administration

14 CFR Part 39

[Docket No. FAA-2004-19527; Directorate Identifier 2004-NM-71-AD; Amendment 39-13932; AD 2005-01-08]

RIN 2120-AA64

Airworthiness Directives; Airbus Model A310 Series Airplanes; and Model A300 B4-600, B4-600R, and F4-600R Series Airplanes, and Model C4 605R Variant F Airplanes (Collectively Called A300-600)

AGENCY: Federal Aviation Administration (FAA), DOT.

ACTION: Final rule.

SUMMARY: The FAA is adopting a new airworthiness directive (AD) for certain Airbus Model A310 series airplanes; and Model A300 B4-600, B4-600R, and F4-600R series airplanes, and Model C4 605R Variant F airplanes (collectively called A300-600). This AD requires relocating contactor 9DG located at rack (relay box) 107VU and adding protective sleeves to the two wire (cable) looms near the door hinge of rack 107VU. This AD is prompted by reports that interference was noticed during production between the wire looms located near the door hinge of rack 107VU and the terminals of contactor 9DG. We are issuing this AD to prevent possible short circuits in the wire looms supplying the fuel pump systems and the pitot probe heating system, which could lead to a possible loss of function of flight-critical systems and reduced controllability of the airplane.

DATES: This AD becomes effective February 11, 2005.

The incorporation by reference of certain publications listed in the AD is approved by the Director of the Federal Register as of February 11, 2005.

ADDRESSES: For service information identified in this AD, contact Airbus, 1 Rond Point Maurice Bellonte, 31707 Blagnac Cedex, France. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street, SW., room PL-401, on the plaza level of the Nassif Building, Washington, DC. This docket number is FAA-2004-19527; the directorate identifier for this docket is 2004-NM-71-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR part 39 with an AD for certain Airbus Model A310 series airplanes; and Model A300 B4-600, B4-600R, and F4-600R series airplanes, and Model C4 605R Variant F airplanes (collectively called A300-600). That action, published in the Federal Register on November 4, 2004 (69 FR 64260), proposed to require relocating contactor 9DG located at rack (relay box) 107VU and adding protective sleeves to the two wire (cable) looms near the door hinge of rack 107VU.

Comments

We provided the public the opportunity to participate in the development of this AD. No comments have been submitted on the proposed AD or on the determination of the cost to the public.

Conclusion

We have carefully reviewed the available data and determined that air safety and the public interest require adopting the AD as proposed.

Costs of Compliance

This AD affects about 167 airplanes of U.S. registry. The required actions will take about 3 work hours per airplane, at an average labor rate of $65 per work hour. Required parts will cost about $290 per airplane. Based on these figures, the estimated cost of the AD for U.S. operators is $80,995, or $485 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-01-08 Airbus: Amendment 39-13932. Docket No. FAA-2004-19527; Directorate Identifier 2004-NM-71-AD.

Effective Date

(a) This AD becomes effective February 11, 2005.

Affected ADs

(b) None.

Applicability

(c) This AD applies to Airbus Model A310 series airplanes, as listed in Airbus Service Bulletin A310-24-2087, Revision 01, dated December 18, 2003; and Model A300 B4-600, B4-600R, and F4-600R series airplanes, and Model C4 605R Variant F airplanes (collectively called A300-600), as listed in Airbus Service Bulletin A300-24-6081, Revision 01, dated December 18, 2003; certificated in any category.

Unsafe Condition

(d) This AD was prompted by reports that interference was noticed during production between two wire (cable) looms located near the door hinge of rack (relay box) 107VU and the terminals of contactor 9DG located at rack 107VU. We are issuing this AD to prevent possible short circuits in the wire looms supplying the fuel pump systems and the pitot probe heating system, which could lead to a possible loss of function of flight-critical systems and reduced controllability of the airplane.

Compliance

(e) You are responsible for having the actions required by this AD performed within the compliance times specified, unless the actions have already been done.

Relocation of Contactor and Addition of Protective Sleeves

(f) Within 12 months after the effective date of this AD, relocate contactor 9DG located at rack 107VU and add protective sleeves to the two wire looms located at the door hinge of rack 107VU, by doing all actions in accordance with the Accomplishment Instructions of Airbus Service Bulletin A310-24-2087, Revision 01 (for Model A310 series airplanes); or Service Bulletin A300-24-6081, Revision 01 (for Model A300-600 series airplanes); both dated December 18, 2003; as applicable.

Actions Accomplished per Previous Issue of Service Bulletins

(g) Actions accomplished before the effective date of this AD in accordance with Airbus Service Bulletin A310-24-2087; or Airbus Service Bulletin A300-24-6081; both dated June 7, 2002; are considered acceptable for compliance with the corresponding actions specified in paragraph (f) of this AD.

Alternative Methods of Compliance (AMOCs)

(h) The Manager, International Branch, ANM-116, Transport Airplane Directorate, FAA, has the authority to approve AMOCs for this AD, if requested in accordance with the procedures found in 14 CFR 39.19.

Related Information

(i) French airworthiness directive F-2003-412, dated November 12, 2003, also addresses the subject of this AD.

Material Incorporated by Reference

(j) You must use the service information that is specified in Table 1 of this AD to perform the actions that are required by this AD, unless the AD specifies otherwise. The Director of the Federal Register approves the incorporation by reference of those documents in accordance with 5 U.S.C. 552(a) and 1 CFR part 51. For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html. You may view the AD docket at the Docket Management Facility, U.S. Department of Transportation, 400 Seventh Street, SW., Room PL-401, Nassif Building, Washington, DC.

Table 1.—Material Incorporated by Reference
Service bulletin | Revision level | Date
Airbus Service Bulletin A300-24-6081 | 01 | December 18, 2003.
Airbus Service Bulletin A310-24-2087 | 01 | December 18, 2003.

Issued in Renton, Washington, on December 27, 2004.
Kevin M. Mullin,
Acting Manager, Transport Airplane Directorate, Aircraft Certification Service.

[FR Doc. 05-161 Filed 1-6-05; 8:45 am]

BILLING CODE 4910-13-P